DEPARTMENT OF AGRICULTURE

Animal and Plant Health Inspection Service

[Docket No. 03-113-1]

Availability of a Draft Pest Risk Analysis for the Importation of Fresh Commercial Citrus From Peru

AGENCY: Animal and Plant Health Inspection Service, USDA.

ACTION: Notice of availability and request for comments.

SUMMARY: We are advising the public of the availability of a draft pest risk analysis that has been prepared by the Animal and Plant Health Inspection Service relative to a proposed rule currently under consideration that would allow the importation of various types of fresh commercial citrus from Peru into the United States. We are making this draft pest risk analysis available to the public for review and comment.

DATES: We will consider all comments that we receive on or before March 12, 2004.

ADDRESSES: You may submit comments by postal mail/commercial delivery or by e-mail. If you use postal mail/commercial delivery, please send four copies of your comment (an original and three copies) to: Docket No. 03-113-1, Regulatory Analysis and Development, PPD, APHIS, Station 3C71, 4700 River Road Unit 118, Riverdale, MD 20737-1238. Please state that your comment refers to Docket No. 03-113-1. If you use e-mail, address your comment to regulations@aphis.usda.gov. Your comment must be contained in the body of your message; do not send attached files. Please include your name and address in your message and “Docket No. 03-113-1” on the subject line.

You may read any comments that we receive on the draft pest risk analysis in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Leah Millar, Center for Plant Health Science and Technology, PPQ, APHIS, 1017 Main Campus Drive, Suite 1550, Raleigh, NC 27606-5202; (919) 513-7045.

SUPPLEMENTARY INFORMATION:

Background

The Animal and Plant Health Inspection Service (APHIS) is considering amending the fruits and vegetables regulations in 7 CFR part 319 to allow the importation of fresh commercial citrus fruit (grapefruit, Mandarin oranges or tangerines, sweet oranges, and tangelo) from Peru into the United States. Currently, citrus fruit from Peru may not be imported into the United States. We have prepared a draft pest risk analysis, entitled “Importation of Fresh Commercial Citrus Fruit: Grapefruit (Citrus x paradisi Macfad.); Lime (C. aurantiifolia [Christm.] Swingle); Mandarin Orange or Tangerine (C. reticulata Blanco); Sweet Orange (C. sinensis [L.] Osbeck); Tangelo (C. x tangelo J.W. Ingram & H.E. Moore); from Peru into the United States (October 2003), that considers the pest risks associated with the importation of these types of fresh commercial citrus from Peru and identifies the appropriate phytosanitary measures to mitigate the risk of introduction of quarantine pests. We are making the draft pest risk analysis available to the public for review and comment.

You may view the draft pest risk analysis on the Internet at http://www.aphis.usda.gov/ppq/pra/ or in our reading room (information on the location and hours of the reading room is provided under the heading ADDRESSES at the beginning of this notice). You may also request a copy of the document by calling or writing to the person listed under FOR FURTHER INFORMATION CONTACT.

This notice solicits public comments on the draft pest risk analysis. We will also be making the draft pest risk analysis available for public comment again during the comment period for any proposed rule related to the importation of fresh commercial citrus from Peru.

Authority: 7 U.S.C. 450 and 7701-7772; 21 U.S.C. 136 and 136a; 7 CFR 2.22, 2.80, and 371.3.

Done in Washington, DC, this 2nd day of January, 2004.
Kevin Shea,
Acting Administrator, Animal and Plant Health Inspection Service.

[FR Doc. 04-515 Filed 1-9-04; 8:45 am]

BILLING CODE 3410-34-P